AGENCY FOR INTERNATIONAL DEVELOPMENT

Renewal of the Advisory Committee on Voluntary Foreign Aid

AGENCY: United States Agency for International Development.

ACTION: Notice of renewal of advisory committee.

SUMMARY: Pursuant to the Federal Advisory Committee Act, the Administrator has determined that renewal of the Advisory Committee on Voluntary Foreign Aid for a two-year period beginning January 29, 2007 is necessary and in the public interest.

FOR FURTHER INFORMATION CONTACT: Jocelyn Rowe, 202-712-4002.

Dated: January 3, 2007.
Jocelyn M. Rowe,
Executive Director, Advisory Committee on Voluntary Foreign Aid (ACVFA), U.S. Agency for International Development.

[FR Doc. 07-124 Filed 1-17-07; 8:45 am]

BILLING CODE 6116-01-M